DEPARTMENT OF HOMELAND SECURITY

Coast Guard

33 CFR Part 165

[Docket No. USCG-2022-0361]

Safety Zones; Annual Events in the Captain of the Port Buffalo Zone—June-August 2022, NY

AGENCY: Coast Guard, Homeland Security (DHS).

ACTION: Notification of enforcement of regulation.

SUMMARY: The Coast Guard will enforce certain safety zones located in the Federal regulations for Annual Events in the Captain of the Port Buffalo Zone. This action is necessary and intended to protect the safety of life and property on navigable waters prior to, during, and immediately after these events. During each enforcement period, no person or vessel may enter the respective safety zone without the permission of the Captain of the Port Buffalo or a designated representative.

DATES: The regulations in 33 CFR 165.939 as listed in Table 165.939 will be enforced for the safety zones identified in the SUPPLEMENTARY INFORMATION section below for the dates and times specified.

FOR FURTHER INFORMATION CONTACT: If you have questions about this notification of enforcement, contact LT Sean Dolan, Chief of Waterways Management, Sector Buffalo, U.S. Coast Guard; telephone 716-843-9391, email D09-SMB-SECBuffalo-WWM@uscg.mil.

SUPPLEMENTARY INFORMATION: The Coast Guard will enforce the Safety Zones; Annual Events in the Captain of the Port Buffalo Zone listed in the table to 33 CFR 165.939 for the following events:

i. Seneca River Days Fireworks, Baldwinsville, NY: The safety zone listed in Table 165.939 as (a)(4) will be enforced on all waters of the Seneca River, Baldwinsville, NY within a 840-foot radius of land position 43°09′25.0″ N, 076°20′21.0″ W, from 8:45 p.m. through 9:45 p.m. on June 10, 2022.

ii. Flagship Niagara League Mariners Ball, Erie, PA: The safety zone listed in (a)(5) will be enforced on all waters of Presque Isle Bay, Erie, PA within a 350-foot radius of position 42°08′22.5″ N, 080°05′15.6″ W, from 5:45 p.m. through 11:15 p.m. on June 4, 2022.

iii. Hope Chest Buffalo-Niagara Dragon Boat Festival, Buffalo, NY: The safety zone listed in (a)(6) will be enforced within All waters of the Buffalo River, Buffalo, NY starting at position 42°52′12.0″ N, 078°52′17.0″ W then Southeast to 42°52′03.0″ N, 078°52′12.0″ W then East to 42°52′03.0″ N, 078°52′10.0″ W then Northwest to 42°52′13.0″ N, 078°52′16.0″ W and then returning to the point of origin, from 7:45 a.m. through 5:15 p.m. on June 18, 2022.

iv. Town of Newfane Fireworks, Olcott, NY: The safety zone listed in (b)(24) will be enforced on all waters of the Buffalo River, Buffalo, NY within a 1,120 foot radius of land position 43°20′23.6″ N, 078°43′09.5″ W, from 9:15 p.m. through 10:45 p.m. on July 3, 2022.

v. City of Tonawanda Fireworks, Tonawanda, NY: The safety zone listed in (b)(25) will be enforced on all U.S. waters of the East Niagara River within a 1,400 foot radius of land position 43°01′39.6″ N, 078°53′07.5″ W, from 9:15 p.m. through 10:15 p.m. on July 4, 2022.

vi. Tom Graves Memorial Fireworks, Port Bay, NY: The safety zone listed in (b)(27) will be enforced on all waters of Port Bay, NY, within a 840 foot radius of the barge located in position 43°17′52.4″ N, 076°49′55.7″ W, from 9:45 p.m. through 10:45 p.m. on July 3, 2022.

vii. Hamburg Beach Blast, Hamburg, NY: The safety zone listed in (b)(33) will be enforced on all waters of Lake Erie contained within a 280 foot radius of 42°45′59.21″ N, 078°52′41.51″ W, from 9:15 p.m. through 10:45 p.m. on July 30, 2022.

viii. Thunder on the Niagara Hydroplane Boat Races, Tonawanda, NY: The safety zone listed in (c)(4) will be enforced on all U.S. waters of the Niagara River near the North Grand Island Bridge, encompassed by a line starting at 43°03′32.9″ N, 078°54′46.9″ W to 43°03′14.6″ N, 078°55′16.0″ W then to 43°02′39.7″ N, 078°54′13.1″ W then to 43°02′59.9″ N, 078°53′42.0″ W and returning to the point of origin from 8:15 a.m. August 6, 2022 through 8:45 a.m. on August 7, 2022.

Pursuant to 33 CFR 165.23, entry into, transiting, or anchoring within these safety zones during an enforcement period is prohibited unless authorized by the Captain of the Port Buffalo or his designated representative; designation need not be in writing. Those seeking permission to enter these safety zones may request permission from the Captain of the Port Buffalo via channel 16, VHF-FM. Vessels and persons granted permission to enter the safety zone shall obey the directions of the Captain of the Port Buffalo or his designated representative. While within a safety zone, all vessels shall operate at the minimum speed necessary to maintain a safe course.

In addition to this notification of enforcement in the Federal Register, the Coast Guard will provide the maritime community with advance notification of the enforcement periods via Broadcast Notice to Mariners or other suitable means. If the Captain of the Port Buffalo determines that the safety zone need not be enforced for the full duration stated in this notification, he may use a Broadcast Notice to Mariners to grant general permission to enter the respective safety zone.

Dated: May 16, 2022.
M.I. Kuperman,
Captain, U.S. Coast Guard, Captain of the Port Buffalo.

[FR Doc. 2022-11935 Filed 6-2-22; 8:45 am]

BILLING CODE 9110-04-P